DEPARTMENT OF AGRICULTURE

Agricultural Marketing Service

[Docket number AMS-FTPP-20-0023]

Proposed Posting, and Posting of Stockyards

AGENCY: Agricultural Marketing Service, USDA.

ACTION: Notice and request for comments.

SUMMARY: The Agricultural Marketing Service (AMS), USDA, is taking action to post stockyards under the Packers and Stockyards Act (P&S Act). Specifically, we are proposing that 10 stockyards now operating subject to the P&S Act be posted. We are also posting 10 stockyards that were identified previously as operating subject to the P&S Act.

DATES: For the proposed posting of stockyards, we will consider comments that we receive on or before May 29, 2020.

ADDRESSES: We invite you to submit comments on this notice. You may submit comments by any of the following methods:

• Internet: Go to http://www.regulations.gov. Follow the on-line instructions for submitting comments.

• Fax: (202) 690-3207.

• Mail, hand delivery, or courier: Stuart Frank, USDA, AMS, 1400 Independence Avenue SW, Room 2507-S, Washington, DC 20250-3601.

Instructions: All comments should refer to the date and page number of this issue of the Federal Register. The comments and other documents relating to this action will be available for public inspection during regular business hours.

FOR FURTHER INFORMATION CONTACT: Contact Donna A. Ash, Program Analyst, AMS, Packers and Stockyards Division at (202) 720-0222 or Donna.a.ash@usda.gov.

SUPPLEMENTARY INFORMATION: AMS administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as, “. . . any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary de-posts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act and therefore cannot be posted. A posted stockyard can be “de-posted,” which occurs when the facility is no longer used as a stockyard.

We are hereby notifying stockyard owners and the public that the following 10 stockyards meet the definition of a stockyard and that we propose to designate these stockyards as posted stockyards.

Proposed facility No. | Stockyard name and location
NY-178 | Davis Livestock Sales, Inc., Gouverneur, New York
NY-179 | Argyle Livestock Station, LLC, Argyle, New York
OK-266 | Geary Livestock Market, LLC, Geary, Oklahoma
OK-227 | McDaniel Livestock Exchange LLC, Valliant, Oklahoma
TX-358 | Mort Livestock Exchange, Canton, Texas
TX-359 | Amarillo West Stockyards LLC, Wildorado, Texas
PA-164 | Double E. Auction Service LLC, Quarryville, Pennsylvania
KY-190 | Triple C. Auctions Ewing, Kentucky
FL-141 | Cattleman's Market of Okeechobee LLC, Okeechobee, Florida
ND-134 | Bismarck Livestock Auction, LLC, Bismarck, North Dakota

We are also notifying the public that the stockyards listed in the following table meet the P&S Act's definition of a stockyard, and therefore, we have posted these stockyards. On June 7, 2019, we published a notice in the Federal Register (Vol. 84. No. 110) proposing to post these 10 stockyards. Since we received no comments to our proposal, we assigned the stockyards a facility number and notified the owners of the stockyard facilities. Posting notices were sent to each stockyard owner to display in public areas of their stockyard. The table below reflects the date of posting for these stockyards.

Facility No. | Stockyard name and location | Date of posting
KS-210 | Hill City Commission, LLC, Hill City, Kansas | 07/15/2019
KY-189 | Blue Grass Stockyards, LLC Lexington, Kentucky | 07/15/2019
KY-190 | Franklin Livestock Market Inc., Franklin, Kentucky | 07/15/2019
MN-194 | Heidelberger Farm Equipment, LLC, Pine City, Minnesota | 07/15/2019
NE-189 | Chappell Livestock LLC, Chappell, Nebraska | 07/16/2019
NM-125 | Santa Teresa Livestock Auction LLC, Santa Teresa, New Mexico | 12/07/2019
OK-222 | Heart & Soul Horse Co., Sallisaw Oklahoma | 07/16/2019
OK-223 | Hinz Auction Land and Cattle, LLC, Clinton, Oklahoma | 07/17/2019
OK-225 | C.M.S. Livestock Auction, LLC, Wanette, Oklahoma | 12/03/2019
VA-163 | Alex Eugene Dill Hollering Hill Auction LLC, Nathalie, Virginia | 07/15/2019

Authority: 7 U.S.C. 202.

Bruce Summers,
Administrator, Agricultural Marketing Service.

[FR Doc. 2020-10340 Filed 5-13-20; 8:45 am]

BILLING CODE 3410-02-P